SURFACE TRANSPORTATION BOARD

[Docket No. FD 36108]

Indiana Business Railroad, Inc., d.b.a Union City Terminal Railroad—Lease and Operation Exemption—in Obion County, Tenn

Indiana Business Railroad, Inc. (IBR), d.b.a Union City Terminal Railroad, a noncarrier, has filed a verified notice of exemption under 49 CFR 1150.31 to lease from Illinois Central Railroad Company (IC),¹ and to operate approximately 7.8 miles of rail line known as IC's Union City Spur between milepost 442.2 at or near Rives and milepost 450.0 at or near Union City in Obion County, Tenn.

¹ IC is a wholly owned subsidiary of the Canadian National Railway Company.

IBR states that the proposed lease and operation agreement are not subject to interchange commitments.

The transaction may be consummated on or after April 26, 2017, the effective date of the exemption (30 days after the verified notice of exemption was filed).

IBR certifies that its projected annual revenues as a result of this transaction will not exceed those that would qualify it as a Class III rail carrier and that the projected annual revenue would not exceed $5 million.

If the verified notice contains false or misleading information, the exemption is void ab initio. Petitions to revoke the exemption under 49 U.S.C. 10502(d) may be filed at any time. The filing of a petition to revoke will not automatically stay the effectiveness of the exemption. Petitions for stay must be filed no later than April 19, 2017 (at least seven days before the exemption becomes effective).

An original and 10 copies of all pleadings, referring to Docket No. FD 36108, must be filed with the Surface Transportation Board, 395 E Street SW., Washington, DC 20423-0001. In addition, one copy of each pleading must be served on Thomas F. McFarland, Thomas F. McFarland, P.C., 208 South LaSalle Street, #1666, Chicago, IL 60604.

According to IBR, this action is categorically excluded from environmental review under 49 CFR 1105.6(c).

Board decisions and notices are available on our Web site at “WWW.STB.GOV.”

Decided: April 7, 2017.
By the Board, Rachel D. Campbell, Director, Office of Proceedings.
Rena Laws-Byrum,
Clearance Clerk.

[FR Doc. 2017-07409 Filed 4-11-17; 8:45 am]

BILLING CODE 4915-01-P